NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Dates and Times:

June 15, 2017; 12:30 p.m.-5:00 p.m.

June 16, 2017; 8:30 a.m.-5:00 p.m.

Place: National Science Foundation, 4201 Wilson Blvd., Arlington, VA 22230.

Meeting Information: https://www.nsf.gov/events/event_summ.jsp?cntn_id=191705&org=MPS.

Type of Meeting: Open.

Contact Person: John Gillaspy, National Science Foundation, 4201 Wilson Boulevard, Suite 505, Arlington, Virginia 22230; Telephone: 703-292-7173.

Purpose of Meeting: To provide advice, recommendations, and counsel on major goals and policies pertaining to mathematical and physical sciences programs and activities.

Agenda

Thursday, June 15, 2017

• Meeting opening, introductions, and approval of previous meeting minutes

• MPS update and follow up discussion

• Budget Discussion

• Discussion of Workload Issues and possibilities for addressing them

• Update on Transitions of Astronomy and DMR Facilities

• Prep for meeting with the NSF Director

Friday, June 16, 2017

• Opening of the day and FACA briefing

• NAS and other Surveys or Decadal Reports and the Role of the AC subcommittees, part I

• Communications with Congress and the Scientific Community

• Science Hors D'oeuvre: Update on LIGO and the Detection of Gravitational Waves

• Presentation from Director and Acting Chief Operations Officer, and feedback from the Advisory Committee

• Cyberinfrastructure Request for Information update

• NAS and other Surveys or Decadal Reports and the Role of the AC subcommittees, part II

• Future Role and Activities of the AC

• Wrap up and opportunity for public Q&A/Comments

Dated: May 15, 2017.
Crystal Robinson,
Committee Management Officer.

[FR Doc. 2017-10054 Filed 5-17-17; 8:45 am]

BILLING CODE 7555-01-P